ENVIRONMENTAL PROTECTION AGENCY

[EPA-HQ-OPP-2010-0632; FRL-8840-1]

Web-Distributed Labeling User Acceptance Pilot

AGENCY: Environmental Protection Agency (EPA).

ACTION: Notice.

SUMMARY: EPA's Office of Pesticide Programs (OPP) is exploring a new initiative called “web-distributed labeling” (web-distributed labeling) that would make the most current version of some pesticide labeling available to users via the Internet. Through this Federal Register Notice, OPP is announcing its intention to conduct a web-distributed labeling “User Acceptance Pilot” and is soliciting interest from entities potentially willing to participate in this pilot program. Through the User Acceptance Pilot, EPA intends to demonstrate how users could access labeling information using the Internet, thereby helping EPA determine whether the benefits of web-distributed labeling would be sufficiently appealing to users that they would be willing to visit a website to download and use labeling. This notice provides a brief description of a pilot website and invites participation in developing a pilot web-distributed labeling website by interested parties.

DATES: Comments must be received on or before September 17, 2010.

ADDRESSES: Submit your comments identified by the docket identification (ID) number by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

FOR FURTHER INFORMATION CONTACT: Michelle DeVaux, Field and External Affairs Division, Office of Pesticide Programs, Environmental Protection Agency, 1200 Pennsylvania Ave., NW., Washington, DC 20460-0001; telephone number: 703-308-5891; fax number:703-308-2962; e-mail address: devaux.michelle@epa.gov.

SUPPLEMENTARY INFORMATION:

I. General Information

A. Does this Action Apply to Me?

You may be potentially affected by this action if you provide pesticide labeling in an electronic format or are interested in developing a website to deliver pesticide labeling electronically. Potentially affected entities may include, but are not limited to:

• Data processing, hosting, and related services (NAICS code 518210), i.e., establishments primarily engaged in providing infrastructure for hosting or data processing services.

• Web search portals (NAICS code 518112), e.g. companies or individuals that develop or maintain web search portals.

• Internet publishing and broadcasting and Web search portals (NAICS code 519130), e.g., internet search portals, Web search portals, and internet search Web sites.

• Persons who manufacture, distribute, sell, apply, or regulate pesticide products, including agricultural, commercial, and residential products (NAICS codes 32532 and 32561).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

EPA has established a docket for this action under docket identification (ID) number EPA-HQ-OPP-2010-0632. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

A. What Action is the Agency Taking?

Through this Federal Register Notice, OPP intends to identify parties potentially interested in participating in a web-distributed labeling User Acceptance Pilot.

1. Overview. EPA regulates pesticide products under the authority of the Federal Insecticide, Fungicide, and Rodenticide Act (FIFRA). FIFRA establishes a pre-market review and approval system called “registration.” With limited exceptions, no pesticide may be sold or distributed in the United States unless EPA has first issued a registration for the product. As part of the registration process, EPA reviews and approves the labeling affixed to or accompanying the pesticide product. Labeling describes how a pesticide may be used safely and effectively. Federal law prohibits the use of a pesticide in a manner inconsistent with its approved labeling. Many pesticide products are registered for multiple uses, and as a result, the labeling of the product is often very lengthy.

Since 2007, EPA has been exploring the possibility of making some pesticide product labeling available via the Internet. EPA envisions a system that would make the most current version of pesticide labeling available to purchasers and users electronically through web-distribution. For certain segments of pesticide products, portions of the labeling would no longer physically accompany the pesticide container. To obtain the pesticide product's full labeling, the container label would require a user to go to an Internet website. Users would be able to retrieve crop-specific labeling by entering the product registration number, the state where the pesticide would be applied, and use site (e.g., a crop) on which the pesticide would be applied. In response to this information, the website would provide streamlined labeling for the user to download that would include only the information necessary for the particular use requested. When fully operational, a web-distributed labeling system would also offer alternate delivery mechanisms for users who cannot access the Internet. Web-distributed labeling is being proposed initially as a voluntary option for registrants and would not be appropriate for all pesticide products. The goal of the web-distributed labeling initiative is to provide streamlined labeling that contains only the pertinent label information specific to the state where the pesticide is to be used and for the particular intended use, thus reducing unrelated directions by a significant amount. EPA expects this will improve label comprehension, readability, and compliance.

EPA is interested in conducting a “User Acceptance Pilot” to research the extent to which users would accept a system requiring them to obtain labeling via the Internet. The specific goal of the pilot is to determine whether the benefits of web-distributed labeling would be sufficiently appealing to users that they would be willing to visit a website to obtain labeling for a pesticide product. The pilot would demonstrate how users could access labeling information using the website and would not involve the actual distribution to users of actual pesticide product labeling that would rely on the web-distributed labeling approach.

2. Background. After receiving a request to consider web-distributed labeling from State officials responsible for regulation of pesticide products, EPA formed an internal workgroup to discuss the possible mechanics of web-distributed labeling and how it would complement ongoing label improvement programs. The workgroup conducted extensive stakeholder outreach to individuals and associations to describe the concept of web-distributed labeling and to solicit stakeholder feedback. Using the stakeholders' input, the EPA internal workgroup developed discussion papers to describe some of the details around specific elements of web-distributed labeling.

In May 2008, EPA requested formal feedback on web-distributed labeling from the Pesticide Program Dialogue Committee (PPDC), a Federal Advisory Committee to the Office of Pesticide Programs. In response, a PPDC workgroup was formed to review and respond to the discussion papers developed by EPA. The workgroup includes representatives from user and grower groups; public interest groups; trade associations; industry; State, local, and tribal governments; educational organizations; Federal agencies; and others. From October 2008 through October 2009 the PPDC web-distributed labeling workgroup met to discuss and provide comment on the papers. A full listing of the meetings and papers considered is available at: http://epa.gov/pesticides/ppdc/distr-labeling/index.html.

In October 2009, the PPDC workgroup recommended a pilot for web-distributed labeling that would allow users to test the functionality of one or several web-distributed labeling websites. The proposed pilot would be conducted with mock pesticide labeling and would not require any changes to actual pesticide labeling and any mock pesticide labeling would not be used to make an actual pesticide application. Based on the feedback received from the PPDC workgroup, EPA decided to focus the pilot on soliciting user feedback on the concept of web-distributed labeling. The pilot is discussed further in Unit II.A.3 and 4.

3. Pilot specifications. The EPA is looking for entities outside of EPA to participate in the User Acceptance Pilot. An entity which volunteers to participate would develop a website from which potential pesticide users and others can retrieve pesticide product labeling information appropriate to a specific state and use site. The website(s) developed for the User Acceptance Pilot will allow users to do the following:

• Log onto an Internet-accessible website.

• Enter a product registration number or other product identifier for one of several pre-determined products.

• Select the relevant state/county in which the mock pesticide application would take place.

• Select the relevant use pattern(s) for the mock pesticide application to filter the labeling according to use pattern(s).

• View and download from the website the labeling appropriate for the identified product, use pattern, and state provided.

In addition, the pilot websites would:

• Provide web-distributed labeling for at least three different products. Participants may use product labels of their choosing and/or, upon request, use mock labels provided by EPA.

• Place a prominent statement on each page of the downloaded labeling making it clear that the labeling downloaded from the website(s) was not legally valid for purposes of making a pesticide application.

• Offer users a mechanism for providing feedback on the web-distributed labeling experience.

Participants are not limited to creating a website that meets only the minimum specifications identified above, and EPA encourages participants to incorporate other tools and functionality as appropriate. Possible enhancements for a web-distributed labeling website are discussed in the Website Functionality discussion paper available at: http://www.epa.gov/pesticides/ppdc/distr-labeling/jan09/functionality.pdf.

4. Pilot evaluation. As noted above, the purpose of the pilot is to obtain information about users' reactions to a system which requires them to obtain labeling from the Internet. The results of this research are important for EPA in deciding to move ahead with further efforts to develop such a system. Consequently, EPA not only expects participants in the Pilot to offer users a mechanism for providing feedback on the web-distributed labeling experience, but also encourages participants to summarize and submit to EPA the feedback obtained through the pilot.

The following types of information would be useful to EPA in assessing the User Acceptance pilot.

i. Paper labels - what users like and dislike about the current paper labeling on or accompanying pesticide containers.

ii. Web-distributed labeling pilot website - the experience of using the website

• How users would access a web-distributed labeling website, e.g., whether high speed, dial-up, no online access;

• Ease of navigation (finding web-distributed labeling the user was looking for); and

• The user's overall experience using the website

iii. Web-distributed labeling - The reaction to web-distributed labeling

• Ease in understanding web-distributed labeling

• Ease in following labeling that is partially on container and partially on web-distributed labeling

• Paper-based format or in the streamlined web-distributed labeling format preference

• User's impressions of the benefits of web-distributed labeling

• Potential impact on the user's compliance with labeling

iv. Other potential features of Web-distributed labeling

• What other information, if any, the user would like to have that was not offered in the pilot, e.g., calibration instructions, pest identification guides.

5. How to participate. Parties (including but not limited to those listed under Unit I.A.) interested in participating in the User Acceptance Pilot must respond in writing by September 17, 2010 to the person identified in the section titled FOR FURTHER INFORMATION CONTACT with an expression of interest to participate. EPA will schedule a meeting with all interested parties after EPA has reviewed the responses to discuss the User Acceptance Pilot and to answer any questions from potential participants. EPA's goal is to have all User Acceptance Pilot websites ready for users to test by October 15, 2010.

Participation in the User Acceptance Pilot is voluntary; however, those entities who ultimately participate must agree to certain terms and conditions in order for EPA to evaluate the success of the website, including the following:

• The website(s) developed for the User Acceptance Pilot must be accessible to all potential users and at no charge to any potential user.

• EPA would post information gathered as part of the User Acceptance Pilot and provided to EPA to the public docket or made available to EPA to post to the public docket.

• Participation in the User Acceptance Pilot does not guarantee future involvement or participation in any web-distributed labeling activity, such as developing a structured labeling interface.

Parties interested in learning more about participating in the pilot can find information at http://www.epa.gov/pesticides/regulating/labels/distribution/index.htm. Discussion papers related to web-distributed labeling are available at http://epa.gov/pesticides/ppdc/distr-labeling/index.html. Participants are encouraged to review Web-Distributed Labeling of Pesticides: Website Functionality (http:/www./epa.gov/pesticides/ppdc/distr-labeling/jan09/functionality.pdf).

B. What is the Agency's Authority for Taking this Action?

EPA is taking this action under the authority of FIFRA, section 20(a). This section provides that “The Administrator shall undertake research . . . with . . . others as may be necessary to carry out the purposes of [FIFRA].” Here EPA is seeking to work with parties in the private sector to obtain information that will help EPA assess whether pesticides users would accept a web-distributed labeling program. This information is essential to understanding whether a web-distributed labeling system would improve users' compliance with pesticide labeling, thereby reducing risks to human health and the environment.

List of Subjects

Environmental protection, Internet, labeling, pesticides.

Dated: August 6, 2010.
Steven Bradbury,
Director, Office of Pesticide Programs.

[FR Doc. 2010-20449 Filed 8-17-10; 8:45 am]

BILLING CODE 6560-50-S